SMALL BUSINESS ADMINISTRATION

[Disaster Declaration # 11164]

Missouri Disaster # MO-00020

AGENCY: U.S. Small Business Administration.

ACTION: Notice.

Summary: This Is A Notice of The Presidential Declaration of A Major Disaster For Public Assistance Only For The State of Missouri (FEMA-1742-DR), dated 02/05/2008.

Incident: Severe Storms, Tornadoes, and Flooding.

Incident Period: 01/07/2008 through 01/10/2008.

Effective Date: 02/05/2008.

Physical Loan Application Deadline Date: 04/07/2008.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street, SW., Suite 6050, Washington, DC 20416.

SUPPLEMENTARY INFORMATION: Notice is hereby given that as a result of the President's major disaster declaration on 02/05/2008, Private Non-Profit organizations that provide essential services of a governmental nature may file disaster loan applications at the address listed above or other locally announced locations.

The following areas have been determined to be adversely affected by the disaster:

Primary Counties: Barry, Dallas, Laclede, Maries, McDonald, Newton, Phelps, Stone, Webster.

The Interest Rates are:

| Percent
Other (Including Non-Profit Organizations) With Credit Available Elsewhere | 5.250
Businesses and Non-Profit Organizations Without Credit Available Elsewhere | 4.000

The number assigned to this disaster for physical damage is 11164.

(Catalog of Federal Domestic Assistance Number 59008)

Herbert L. Mitchell,
Associate Administrator for Disaster Assistance.

[FR Doc. E8-2845 Filed 2-14-08; 8:45 am]

BILLING CODE 8025-01-P